DEPARTMENT OF THE INTERIOR

Bureau of Land Management

[CA-930-1020-AC]

Notice of Public Meetings: Northwest California Resource Advisory Council; Northeast California Resource Advisory Council; Central California Resource Advisory Council; California Desert District Advisory Council

AGENCY: Bureau of Land Management, Department of the Interior.

ACTION: Notice of public meetings.

SUMMARY: In accordance with the Federal Land Policy and Management Act of 1976 (FLPMA), and the Federal Advisory Committee Act of 1972 (FACA), the U. S. Department of the Interior, Bureau of Land Management (BLM) Northwest California Resource Advisory Council; Northeast California Resource Advisory Council; Central California Resource Advisory Council and California Desert District Advisory Council will meet as indicated below.

DATES: Northwest California Resource Advisory Council—September 3, 2003, 10 a.m. to 3 p.m., Holiday Inn, 1900 Hilltop Dr., Redding, CA. The council will discuss the Sustaining Working Landscapes initiative. Public comment will be received at 1 p.m.

Northeast California Resource Advisory Council—September 26-27, 2003. On September 26, the meeting begins at 8 a.m. at the BLM Eagle Lake Field Office, 2950 N. State St., Susanville, CA. The council will discuss the Sustaining Working Landscapes initiative and will receive public comment beginning at 1 p.m. Additional agenda items include juniper management and land use updates. A Public land improvement project field tour will be conducted on September 27, 2003. Members of the public are welcome. They must provide their own transportation and lunch.

California Desert District Advisory Council: September 19-20, 2003, at the Kerr McGee Center, 100 West California Avenue, Ridgecrest, CA. The Council will discuss a variety of agenda topics on Friday, September 19. Saturday, September 20 will include a briefing and overview of the Sustaining Working Landscapes initiative from 8 a.m. to 10 a.m. followed by public comment from 10:15 a.m. to 12 noon and 1:30 p.m. to 3:30 p.m., followed by comments/recommendations from Council members. A court reporter will record all public comments. The meeting will adjourn 5 p.m.

Central California Resource Advisory Council—October 3-4, 2003 in the conference room of the BLM Bakersfield Field Office, 3801 Pegasus Avenue, Bakersfield, CA. On October 3, the council will discuss the Sustaining Working Landscapes initiative and will receive public comment beginning at 3 p.m. On October 4, the council will continue discussion on Sustaining Working Landscapes. Other Central California land management issues will be discussed as time allows.

FOR FURTHER INFORMATION CONTACT: For Northwest and Northeast Advisory Councils, contact BLM Public Affairs Officer Jeff Fontana, Eagle Lake Field Office, Susanville, CA, (530) 252-5332.

California Desert District Advisory Council, contact BLM Public Affairs Officer Doran Sanchez, California Desert District Office, Moreno Valley, CA, (909) 697-5220.

Central California Resource Advisory Council, contact BLM Folsom Field Office Manager Deane Swickard, or Community Planner John Scull at (916) 985-4474.

SUPPLEMENTARY INFORMATION: The members of the councils advise the Secretary of the Interior, through the BLM, on a variety of planning and management issues associated with public land management in California. At these meetings, the major agenda topics will be the Sustaining Working Landscapes initiative in which the Bureau is considering new management approaches intended to promote better partnerships with grazing permittees, advance the long-term health and productivity of the public lands, provide for sustainable ranching and improve BLM's business practices. The councils will discuss the initiative and receive public comments. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: July 28, 2003.
J. Anthony Danna,
Deputy State Director, Resources.

[FR Doc. 03-19583 Filed 7-31-03; 8:45 am]

BILLING CODE 4310-40-P